DEPARTMENT OF AGRICULTURE

Natural Resources Conservation Service

Mission-Lapwai Creek Supplemental Number 2 Watershed Protection Project, Nez Perce County, ID

AGENCY: Natural Resources Conservation Service.

ACTION: Notice of a Finding of No Significant Impact.

FOR FURTHER INFORMATION CONTACT: Richard Sims, State Conservationist, Natural Resources Conservation Service, 9173 W. Barnes Dr., Suite C, Boise, Idaho 83709-1555, telephone (208) 378-5700.

Notice: Pursuant to section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Mission-Lapwai Creek Supplemental Number 2 Watershed Protection Project, Nez Perce County, Idaho.

The Plan/Environmental Assessment of this federally assisted action indicates that the project will not cause significant local, regional, or national impacts on the environment. As a result of these findings, Richard Sims, State Conservationist, has determined that the preparation and review of an environmental impact statement was not needed for this project.

The Mission-Lapwai Creek Supplement Number 2 Watershed Protection Project consists of a system of land treatment measures designed to protect the resource base, reduce off-site sediment and associated nutrients and bacteria, improve the quality of ground water, and water entering the Clearwater River. Planned treatment practices include: access roads, agrichemical handling facilities, animal trails and walkways, buffers strips, channel vegetation, constructed wetlands, critical area planting, diversions, fencing, field borders, filter strips, fish stream improvement structures, forest site preparation, forest stand improvement, grade stabilization structures, grassed waterways, heavy use area protection, nutrient management, pasture and hayland planting, pest management, ponds, prescribed grazing, range planting, residue management (no-till, mulch-till, direct seeding), riparian forest buffers, rock-lined waterways, runoff management systems, sediment basins, stockwater development, streambank and shoreline protection, stripcropping, structure for water control, subsoiling, terraces, tree and shrub establishment, use exclusion, waste management systems, water and sediment control basins, wildlife upland habitat management, and wildlife wetland habitat management.

The Notice of Finding of No Significant Impact (FONSI) has been forwarded to the Environmental Protection Agency. The basic data developed during the plan/environmental assessment are on file and may be reviewed by contacting Mr. Richard Sims. The FONSI has been sent to various Federal, State, and local agencies, and interested parties. A limited number of copies of the FONSI are available to fill single copy requests at the address stated on the previous page.

No administrative action on the proposal will be initiated until 30 days after the date of this publication in the Federal Register.

(This activity is listed in the catalog of Federal Domestic Assistance under No. 10.904, Watershed Protection and Flood Prevention, and is subject to the provisions of Executive Order 12372, which requires intergovernmental consultation with State and local officials.)

Dated: October 17, 2000.
Richard Sims,
State Conservationist.

[FR Doc. 00-27519 Filed 10-25-00; 8:45 am]

BILLING CODE 3410-16-M